NATIONAL ARCHIVES AND RECORDS ADMINISTRATION

[NARA-2017-034]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when agencies no longer need them for current Government business. The records schedules authorize agencies to preserve records of continuing value in the National Archives of the United States and to destroy, after a specified period, records lacking administrative, legal, research, or other value. NARA publishes notice in the Federal Register for records schedules in which agencies propose to destroy records they no longer need to conduct agency business. NARA invites public comments on such records schedules.

DATES: NARA must receive requests for copies in writing by May 3, 2017. Once NARA finishes appraising the records, we will send you a copy of the schedule you requested. We usually prepare appraisal memoranda that contain additional information concerning the records covered by a proposed schedule. You may also request these. If you do, we will also provide them once we have completed the appraisal. You have 30 days after we send to you these requested documents in which to submit comments.

ADDRESSES: You may request a copy of any records schedule identified in this notice by contacting Records Appraisal and Agency Assistance (ACRA) using one of the following means:

Mail: NARA (ACRA); 8601 Adelphi Road; College Park, MD 20740-6001.

Email: request.schedule@nara.gov.

FAX: 301-837-3698.

You must cite the control number, which appears in parentheses after the name of the agency that submitted the schedule, and a mailing address. If you would like an appraisal report, please include that in your request.

FOR FURTHER INFORMATION CONTACT: Margaret Hawkins, Director, by mail at Records Appraisal and Agency Assistance (ACRA); National Archives and Records Administration; 8601 Adelphi Road; College Park, MD 20740-6001, by phone at 301-837-1799, or by email at request.schedule@nara.gov.

SUPPLEMENTARY INFORMATION: NARA publishes notice in the Federal Register for records schedules they no longer need to conduct agency business. NARA invites public comments on such records schedules, as required by 44 U.S.C. 3303a(a).

Each year, Federal agencies create billions of records on paper, film, magnetic tape, and other media. To control this accumulation, agency records managers prepare schedules proposing records retention periods and submit these schedules for NARA's approval. These schedules provide for timely transfer into the National Archives of historically valuable records and authorize the agency to dispose of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless otherwise specified. An item in a schedule is media neutral when an agency may apply the disposition instructions to records regardless of the medium in which it creates or maintains the records. Items included in schedules submitted to NARA on or after December 17, 2007, are media neutral unless the item is expressly limited to a specific medium. (See 36 CFR 1225.12(e).)

Agencies may not destroy Federal records without Archivist of the United States' approval. The Archivist approves destruction only after thoroughly considering the records' administrative use by the agency of origin, the rights of the Government and of private people directly affected by the Government's activities, and whether or not the records have historical or other value.

In addition to identifying the Federal agencies and any subdivisions requesting disposition authority, this notice lists the organizational unit(s) accumulating the records (or notes that the schedule has agency-wide applicability when schedules cover records that may be accumulated throughout an agency); provides the control number assigned to each schedule, the total number of schedule items, and the number of temporary items (the records proposed for destruction); and includes a brief description of the temporary records. The records schedule itself contains a full description of the records at the file unit level as well as their disposition. If NARA staff has prepared an appraisal memorandum for the schedule, it also includes information about the records. You may request additional information about the disposition process at the addresses above.

Schedules Pending

1. Department of Health and Human Services, Centers for Medicare & Medicaid Services (DAA-0440-2015-0002, 2 items, 2 temporary items). Records related to general administration of various agency programs, including working files, correspondence, and agreements.

2. Department of Health and Human Services, Centers for Medicare & Medicaid Services (DAA-0440-2015-0004, 1 item, 1 temporary item). Records related to financial and pricing aspects of agency programs, including medical claims, checks, billing, grants, and financial reports.

3. Department of Health and Human Services, Centers for Medicare & Medicaid Services (DAA-0440-2015-0006, 1 item, 1 temporary item). Records related to enrollment processes and activities of agency programs.

4. Department of Health and Human Services, Centers for Medicare & Medicaid Services (DAA-0440-2015-0007, 1 item, 1 temporary item). Records related to participants and beneficiaries of agency programs.

5. Department of Health and Human Services, Centers for Medicare & Medicaid Services (DAA-0440-2015-0008, 1 item, 1 temporary item). Records related to providers participating in agency programs, including records of health plans and provider registration processes.

6. Department of Health and Human Services, Centers for Medicare & Medicaid Services (DAA-0440-2015-0011, 3 items, 1 temporary item). Records related to routine public outreach and engagement, including training records, grant records, and Web site content. Proposed for permanent retention are press releases, news releases, formal education products, and photographs related to activities of senior officials and agency events.

7. Department of Health and Human Services, Centers for Medicare & Medicaid Services (DAA-0440-2015-0012, 1 item, 1 temporary item). Records related to program integrity and compliance, including program review files, surveys, action plans, and hotline records.

8. Department of Homeland Security, Immigration and Customs Enforcement (DAA-0567-2015-0010, 5 items, 5 temporary items). Records to include case files in which no further action is taken regarding detainee medical, facility, and general civil rights complaints; language access documents; and materials about minority intern staffing initiatives.

9. Department of Homeland Security, Immigration and Customs Enforcement (DAA-0567-2017-0005, 1 item, 1 temporary item). Master file of an electronic information system used for tracking air and ground transit and status of detainee enforcement and removal operations.

10. Department of Homeland Security, Immigration and Customs Enforcement (DAA-0567-2017-0007, 1 item, 1 temporary item). Master file of an electronic information system used for interdepartmental and intradepartmental information sharing and to support biometric interoperability.

11. Department of Homeland Security, United States Citizenship and Immigration Services (DAA-0566-2017-0007, 17 items, 16 temporary items). Applications for long-term employment-based benefits when approved but not used; for short-term employment-based benefits when approved; and for all other employment-based benefits when denied, abandoned, withdrawn, terminated, administratively closed, rejected for incorrect fees or non-sufficient funds, or incomplete or missing signature(s). Proposed for permanent retention are applications for long-term employment-based benefits when approved and used.

12. National Archives and Records Administration, Research Services (N2-469-16-1, 3 items, 3 temporary items). Records of the United States Agency for International Development including accessioned records covered by the General Records Schedule and reference copies of publications duplicated in other accessioned records. These records were accessioned to the National Archives but lack sufficient historical value to warrant their continued preservation.

13. Office of Management and Budget, Resource Management Offices (DAA-0051-2015-0001, 7 items, 5 temporary items). Records relating to the process of review, oversight and preparation for the President's budget including materials used to assemble the final budget submission. Proposed for permanent retention are publications, budget submissions, justifications, and strategic plans from agencies.

14. United States Judiciary, Judicial Conference of the United States (DAA-0516-2016-0001, 35 items, 25 temporary items). Records of the Federal Judicial Center related to program development, judicial history and research, education and training, internal and external publications, and international judicial relations. Proposed for permanent retention are records of the Federal Judicial Center including high level correspondence, records setting policy and program direction, publications and educational products, and historical data related to workload and the development of the judiciary.

Laurence Brewer,
Chief Records Officer for the U.S. Government.

[FR Doc. 2017-06524 Filed 3-31-17; 8:45 am]

BILLING CODE 7515-01-P